DEPARTMENT OF ENERGY

Federal Energy Regulatory Commission

[Docket No. CP01-14-000]

Mahue Construction Company; Notice of Petition for Declaratory Order

October 20, 2000.

Take notice that on October 17, 2000, Mahue Construction Company (Mahue), P.O. Box 555, 8048 Court Avenue, Hamlin, West Virginia, filed a petition for declaratory order in Docket No. CP01-14-000, requesting that the Commission declare that certain pipeline facilities in Lincoln County, West Virginia to be acquired from Columbia Gas Transmission Corporation (Columbia) would have the primary function of gathering of natural gas and would thereby be exempt from the Commission's jurisdiction pursuant to Section 1(b) of the Natural Gas Act, all as more fully set forth in the petition which is on file with the Commission and open to public inspection. This filing may be viewed on the web at http://www.ferc.us/online/rims.htm (call 202-208-2222).

Mahue states that the pipeline facilities at issue consist of segments of pipeline totaling approximately 5.43 miles in length and ranging from 2 to 12 inches in diameter, and have been used to move gas from wellhead or producer interconnects to Columbia's mainline, or to farm tap customers and town border stations of Mountaineer Gas Company (Mountaineer), a local distribution company. It is stated that Mahue and Columbia have entered into a Purchase and Sale Agreement dated June 14, 2000, in which the parties agreed that the closing of the sale would not occur until the Commission issues Mahue and Columbia authorization needed to effect the sale of assets. It is stated that Columbia will abandon the facilities under its Part 157 Subpart F blanket certificate.

Mahue claims that it will assume the obligation to provide service to Mountaineer pursuant to a negotiated agreement, and Mahue submits that the quality of service that its customers will receive in the future will not be materially different from the service currently received. Mahue states that the primary function of the facilities is gathering, consistent with the criteria set forth in Farmland Industries, Inc. (23 FERC ¶ 61,063 (1983), as modified in subsequent orders.

Any questions concerning this application may be directed to Randall S. Rich, of Bracewell & Patterson, L.L.P., at (202) 828-5879.

Any person desiring to be heard or to make protest with reference to said petition should on or before November 13, 2000, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules. Beginning November 1, 2000, comments and protests may be filed electronically via the internet in lieu of paper. See, 18 CFR 385.2001(a)(1)(iii) and the instructions on the Commission's web site at http://www.ferc.fed.us/efi.doorbeel.htm.

Take further notice that, pursuant to the authority contained in and subject to jurisdiction conferred upon the Commission by sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Mahue to appear or be represented at the hearing.

David P. Boergers,
Secretary.

[FR Doc. 00-27485 Filed 10-25-00; 8:45 am]

BILLING CODE 6717-01-M